DEPARTMENT OF COMMERCE

National Oceanic and Atmospheric Administration

[I.D. 112502E]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc VMS Committee will hold a meeting, which is open to the public.

DATES: The meeting will convene at 8:30 a.m. on Wednesday, December 18, 2002, and adjourn when business for the day is completed.

ADDRESSES: The meeting will be held in the West Conference Room at the Pacific Fishery Management Council, 7700 NE Ambassador Place, Suite 200, Portland, OR 97220-1384, (503) 820-2280.

Council address: Pacific Fishery Management Council, 7700 NE Ambassador Place, Suite 200, Portland, OR 97220-1384.

FOR FURTHER INFORMATION CONTACT: Mr. Mike Burner, Pacific Fishery Management Council, (503) 820-2280.

SUPPLEMENTARY INFORMATION: At its November 2002 meeting, the Council recommended the implementation of a pilot VMS program for West Coast groundfish fisheries. The primary purpose of the meeting is to review the Council recommendations and develop draft language for a proposed regulatory package.

Although non-emergency issues not contained in the meeting agenda may come before the Ad Hoc VMS Committee for discussion, those issues may not be the subject of formal Ad Hoc VMS Committee action during this meeting. Action will be restricted to those issues specifically listed in this notice and any issues arising after publication of this notice that require emergency action under section 305(c) of the Magnuson-Stevens Fishery Conservation and Management Act, provided the public has been notified of the Ad Hoc VMS Committee's intent to take final action to address the emergency.

Special Accommodations

This meeting is physically accessible to people with disabilities. Requests for sign language interpretation or other auxiliary aids should be directed to Ms. Carolyn Porter at (503) 820-2280 at least 5 days prior to the meeting date.

Dated: November 25, 2002.
Richard W. Surdi,
Acting Director, Office of Sustainable Fisheries, National Marine Fisheries Service.

[FR Doc. 02-30456 Filed 11-29-02; 8:45 am]

BILLING CODE 3510-22-S